DEPARTMENT OF LABOR

Employment and Training Administration

[TA-W-55,781]

Walker Systems, Inc., Div of The Wiremold Company, Including Leased Workers of Manpower, Inc., and Leased Worker Mr. Charles Giersz, Williamstown, WV; Amended Notice of Certification Regarding Eligibility To Apply for Worker Adjustment Assistance and Alternative Trade Adjustment Assistance

In accordance with section 223 of the Trade Act of 1974 (19 U.S.C. 2273) the Department of Labor issued a Notice of Certification Regarding Eligibility to Apply for Worker Adjustment Assistance and Alternative Trade Adjustment Assistance on October 18, 2004, applicable to workers of Walker Systems, Inc., division of The Wiremold Company, including leased workers of Manpower, Inc., Williamstown, West Virginia. The notice was published in the Federal Register on November 12, 2004 (69 FR 65463).

At the request of Mr. Charles Giersz, the Department reviewed the certification for workers of the subject firm. New information shows that a worker separation will occur involving a leased employee of the Williamstown, West Virginia facility of Walker Systems, Inc., division of The Wiremold Company. Mr. Charles Giersz provides engineering support services for the production of wire and cable systems for building at the Williamstown, West Virginia location of the subject firm.

Based on these findings, the Department is amending this certification to include a leased employee, Mr. Charles Giersz, of the Williamstown, West Virginia facility of Walker Systems, Inc., division of The Wiremold Company.

The intent of the Department's certification is to include all workers of Walker Systems, Inc., division of The Wiremold Company, including leased workers of Manpower, Inc., Williamstown, West Virginia, who were adversely affected by a shift in production to Mexico.

The amended notice applicable to TA-W-55,781 is hereby issued as follows:

All workers of Walker Systems, Inc., a division of The Wiremold Company, including leased workers of Manpower, Inc. and leased worker Mr. Charles Giersz, Williamstown, West Virginia, who became totally or partially separated from employment on or after October 12, 2003, through October 18, 2006, are eligible to apply for adjustment assistance under section 223 of the Trade Act of 1974, and are also eligible to apply for alternative trade adjustment assistance under section 246 of the Trade Act of 1974.

Signed in Washington, DC, this 5th day of January, 2005.
Richard Church,
Certifying Officer, Division of Trade Adjustment Assistance.

[FR Doc. E5-206 Filed 1-19-05; 8:45 am]

BILLING CODE 4510-30-P